DEPARTMENT OF THE INTERIOR

Bureau of Land Management

[LLCON06000 L16100000.DQ0000]

Notice of Availability of the Proposed Resource Management Plan and Final Environmental Impact Statement for the Dominguez-Escalante National Conservation Area, Colorado

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan (RMP)/Final Environmental Impact Statement (EIS) for the Dominguez-Escalante National Conservation Area (D-E NCA) located in Mesa, Delta and Montrose counties in Colorado and by this notice is announcing its availability.

DATES: The BLM planning regulations state that any person who meets the conditions as described in the regulations may protest the BLM's Proposed RMP/Final EIS. A person who meets the conditions and files a protest must file the protest within 30 days of the date that the Environmental Protection Agency publishes its notice of availability in the Federal Register.

ADDRESSES: Copies of the Dominguez-Escalante National Conservation Area Proposed RMP/Final EIS have been sent to affected Federal, State and local government agencies; tribal governments; and other stakeholders. Copies of the Proposed RMP/Final EIS are available for public inspection at the Grand Junction Field Office, 2815 H Road, Grand Junction, CO 81506; and the BLM's Uncompahgre Field Office at 2465 South Townsend Ave., Montrose, CO 81401. Interested persons may also review the Proposed RMP/Final EIS on the Internet at http://www.blm.gov/co/st/en/nca/denca/denca_rmp.html. All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Collin Ewing, NCA Manager, telephone 970-244-3049; address Grand Junction Field Office (see address above); email dencarmp@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The D-E NCA planning area includes approximately 218,000 acres of State, private and BLM-managed lands located in Delta, Mesa and Montrose counties in western Colorado. Within the D-E NCA planning area, the BLM administers approximately 210,000 acres of Federal surface and subsurface estate. Management decisions made as a result of the RMP will apply only to the BLM-administered lands in the D-E NCA planning area. The D-E NCA was established by the Omnibus Public Lands Management Act of 2009. The D-E NCA is currently managed under the 1987 Grand Junction Record of Decision (ROD) and Approved RMP, as amended; the 1989 Uncompahgre Basin ROD and Approved RMP, as amended; and the BLM's 2010 Interim Management Policy for the D-E NCA and Dominguez Canyon Wilderness. When approved, this RMP will replace all of these existing plans for the D-E NCA planning area.

The Draft RMP and Draft EIS public comment period, which began on May 17, 2013, and ended September 23, 2013, included a 45-day extension in response to requests from the public. The total comment period encompassed 129 days.

The Proposed RMP/Final EIS describes and analyzes five management alternatives, each of which includes objectives and management actions to address management challenges and issues, including the conservation and protection of the unique and important resources that were identified as purposes of the area's designation.

Alternative A is the no action alternative and would retain the current management goals, objectives and direction specified in the 1987 Grand Junction RMP and 1989 Uncompahgre Basin RMP, where the management is consistent with the Omnibus Act.

Alternative B focuses on allowing natural processes to influence the condition of resources, which would involve placing additional restrictions on allowable uses to manage the D-E NCA. Recreation would be managed largely through Extensive Recreation Management Areas, where the BLM would commit to providing activity opportunities but not specific recreation outcomes or settings. Alternative C emphasizes active management for biological restoration and cultural resource protection. The BLM would set objectives that provide a high level of resource protection and restoration. Only two areas would be managed as Special Recreation Management Areas, with the rest of the D-E NCA not managed as recreation areas. Alternative D would also emphasize an active management approach for biological restoration and cultural resource protection, but with objectives that provide a lower level of restoration and protection for these resources as compared to Alternative C. Resource uses, particularly trail-based recreation and livestock grazing, would be emphasized. The Proposed RMP is based upon the Preferred Alternative (E) identified in the Draft. Alternative E from the draft was largely a combination of management approaches already considered under alternatives A through D. The Proposed RMP also includes changes from the draft in response to public comments and advisory council recommendations. Public comments identified opportunities to better resolve conflicts or impacts as well as identified parts of the EIS in need of greater clarity. As with the Draft Preferred Alternative, the Proposed RMP would set objectives for biological resources that are more ambitious than those in Alternative D but less ambitious than those in Alternative C. As with Alternatives C and D, a wide range of tools would be available to achieve these objectives.

The Proposed RMP would provide comprehensive, long-range decisions for the use and management of resources in the D-E NCA, focusing on the conservation and protection of the unique and important resources that were identified as purposes of the area's designation.

The Proposed RMP includes: goals, objectives, management actions, allowable use, and implementation decisions to ensure future BLM management supports the protection of two Areas of Critical Environmental Concern, four Special Recreation Management Areas, Extensive Recreation Management Areas, Wilderness Study Areas, the Old Spanish National Historic Trail, and a stream segment, Cottonwood Creek, which was found suitable for inclusion in the National Wild and Scenic River System. The following is a brief summary of the Wild and Scenic Rivers study process findings: of the 147.6 miles of 8 streams inventoried, 64.4 miles were found ineligible and 83.2 miles were found eligible; of the 83.2 eligible stream miles, 69.1 miles were determined non-suitable and 14.1 miles were determined suitable for inclusion in the National Wild and Scenic River System. Maps are included to illustrate the Proposed RMP as well as the other alternatives considered in the Final EIS.

The D-E NCA is withdrawn from all the mineral laws and BLM expects very little ground disturbance. The proposed plan alternative includes mitigation to protect soils, wildlife and habitat (e.g., measures to reduce risk of disease transmission from domestic sheep to wild bighorn sheep), a national trail management corridor to protect the Old Spanish National Historic Trail, and protections relevant to the National Historic Preservation Act.

The BLM made changes to the Proposed RMP/Final EIS in response to public comment on the Draft RMP/Draft EIS in addition to cooperating agency reviews, advisory council reviews, U.S. Fish and Wildlife Service consultation, and extensive internal BLM reviews of the Proposed RMP/Final EIS. The BLM carefully considered all comments and incorporated them into the Proposed RMP as appropriate. Public comments resulted in the addition of clarifying text, but did not constitute a substantial change that would require a supplemental EIS.

Instructions for filing a protest with the Director of the BLM regarding the Proposed RMP/Final EIS may be found in the “Dear Reader” Letter of the D-E NCA Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Unlike land use planning decisions, implementation decisions included in this Proposed RMP/Final EIS are not subject to protest under the BLM planning regulations, but are subject to an administrative review process through appeals to the Office of Hearings and Appeals, Interior Board of Land Appeals, pursuant to 43 CFR part 4 Subpart E. Implementation decisions generally constitute the BLM's final approval allowing on-the-ground actions to proceed. Where implementation decisions are made as part of the land use planning process, they are subject to the appeals process or other administrative review as prescribed by specific resource program regulations once the BLM resolves the protests to land use planning decisions and issues an Approved RMP and ROD. The Approved RMP and ROD will, therefore, identify the implementation decisions made in the plan that may be appealed to the Office of Hearing and Appeals.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Ruth Welch,
BLM Colorado State Director.

[FR Doc. 2016-15526 Filed 6-30-16; 8:45 am]

BILLING CODE 4310-JB-P